DEPARTMENT OF TRANSPORTATION

Office of the Secretary

[Docket No. DOT-OST-2024-0005]

Office of the Chief Financial Officer and Assistant Secretary for Budget and Programs; U.S. Department of Transportation Learning Agenda: Fiscal Years 2024-2026, Response to Comments Received

AGENCY: Office of the Secretary (OST), Department of Transportation (DOT).

ACTION: Notice of availability of the learning agenda.

SUMMARY: This document provides the public with responses to the comments received for Federal Register Request for Information “Office of the Chief Financial Officer and Assistant Secretary for Budget and Programs; U.S. Department of Transportation Learning Agenda Supplement: Fiscal Years 2024-2026” (Docket No. DOT-OST-2024-0005).

DATES: November 29, 2024.

ADDRESSES: For access to DOT Docket Number DOT-OST 2024-0005 to read background document and comments received, go to www.regulations.gov at any time or to the U.S. Department of Transportation, 1200 New Jersey Avenue SE, Docket Operations, M-30, West Building Ground Floor, Room W12-140, Washington, DC 20590 between 9 a.m. and 5 p.m. Eastern Standard Time, Monday through Friday, except Federal holidays.

FOR FURTHER INFORMATION CONTACT: Please email PEER@dot.gov or call John D. Giorgis at (202) 366-6513 for further information. Office hours are from 8:30 a.m. to 5 p.m. EDT, Monday through Friday, except for Federal holidays.

SUPPLEMENTARY INFORMATION: The U.S. Department of Transportation (DOT) systematically plans for building evidence to inform policy, regulatory, and operational decisions. This systematic plan, known as a learning agenda, is developed in accordance with Title I of the Foundations for Evidence-Based Policymaking Act of 2018.¹

In March 2022, DOT published the first Department-wide Learning Agenda: Fiscal Years (FY) 2022-2026, in conjunction with the Department's Strategic Plan: FY 2022-2026.² DOT reviews and assesses the Learning Agenda on an annual basis in accordance with Section 290.8 of Office of Management and Budget's Circular A-11 and OMB Memoranda M-19-23 and M-21-27.³ Upon reaching the mid-point of the Learning Agenda: FY 2022-2026, the Department determined it was beneficial to update it and issue the Learning Agenda: FY 2024-2026.

As part of the development process for the Learning Agenda: FY 2024-2026, DOT's Office of the Chief Financial Officer and Assistant Secretary for Budget and Programs issued a Request for Information (RFI).⁴ The RFI sought public comment regarding potential updates to DOT's first Learning Agenda in three main areas:

• Whether there were new priority learning questions;

• Whether there were new priority data needs; and

• Whether the learning questions or data needs in the Learning Agenda: FY 2022-2026 needed to be adjusted.

The RFI was published on February 13, 2024, and accepted responses during a 60-day comment period.

DOT received eight comments through the Request for Information and took them into consideration when developing the Learning Agenda: FY 2024-2026. Most comments offered broad input. One comment sent by the Institute for Policy Integrity at New York University School of Law focused on the Corporate Annual Fuel Economy (CAFE) standards; it was forwarded to the appropriate office within the National Highway Traffic Safety Administration for their consideration.

DOT published the Learning Agenda: FY 2024-2026 on November 13, 2024. It is available on the DOT's web page under the Office of the Chief Financial Officer and Assistant Secretary for Budget and Programs.⁵

Issued in Washington, DC.
Victoria Wassmer,
Assistant Secretary for Budget and Programs and Chief Financial Officer, U.S. Department of Transportation.

Endnotes

¹ Public Law 115-435, title I, sec. 101(a)(2); 5 U.S.C. 312(a).

² DOT (2022), Learning Agenda: FY 2024-2026, https://www.transportation.gov/mission/budget/learning-agenda-fy-2022-2026; Strategic Plan: FY 2022-2026, https://www.transportation.gov/mission/us-dot-strategic-plan-fy-2022-2026.

³ Office of Management and Budget (2024), Circular A-11: Preparation, Submission and Execution of the Budget, Section 290.8, www.whitehouse.gov/wp-content/uploads/2018/06/s290.pdf; (2019), “Memoranda 19-23,” https://www.whitehouse.gov/wp-content/uploads/2019/07/M-19-23.pdf; (2021), “Memoranda M-21-27,” https://www.whitehouse.gov/wp-content/uploads/2021/06/M-21-27.pdf.

⁴ 89 FR 10155 (February 13, 2024), www.federalregister.gov/documents/2024/02/13/2024-02669/office-of-the-chief-financial-officer-and-assistant-secretary-for-budget-and-programs-us-department.

⁵ DOT (2024), Learning Agenda: FY 2024-2026, https://www.transportation.gov/mission/budget/learning-agenda-fy-24-26.

[FR Doc. 2024-28076 Filed 11-27-24; 8:45 am]

BILLING CODE 4910-9X-P